DEPARTMENT OF TRANSPORTATION

Federal Aviation Administration

14 CFR Part 39

[Docket No. FAA-2005-22791; Directorate Identifier 2005-NM-083-AD; Amendment 39-14448; AD 2006-01-09]

RIN 2120-AA64

Airworthiness Directives; BAE Systems (Operations) Limited Model BAe 146-100A and -200A Series Airplanes

AGENCY: Federal Aviation Administration (FAA), Department of Transportation (DOT).

ACTION: Final rule.

SUMMARY: The FAA is adopting a new airworthiness directive (AD) for all BAE Systems (Operations) Limited Model BAe 146-100A and -200A series airplanes. This AD requires inspecting the nose landing gear (NLG) assembly to determine the part number of the NLG main fitting subassembly. For subject NLG main fitting subassemblies, this AD also requires determining the total number of accumulated landings on a subject NLG main fitting subassembly, and eventually replacing the NLG assembly. This AD results from a report indicating that the airplane maintenance manual contains incorrect safe-life limit information for certain NLG assemblies. We are issuing this AD to ensure that affected NLG fitting subassemblies are removed from service before they reach their approved safe-life limit. Operating with an NLG fitting subassembly that is beyond its approved safe-life limit could result in failure of the NLG and consequent loss of directional control on the ground and major structural damage to the airplane.

DATES: This AD becomes effective February 16, 2006.

The Director of the Federal Register approved the incorporation by reference of a certain publication listed in the AD as of February 16, 2006.

ADDRESSES: You may examine the AD docket on the Internet at http://dms.dot.gov or in person at the Docket Management Facility, U.S. Department of Transportation, 400 Seventh Street, SW., Nassif Building, Room PL-401, Washington, DC.

Contact British Aerospace Regional Aircraft American Support, 13850 Mclearen Road, Herndon, Virginia 20171, for service information identified in this AD.

FOR FURTHER INFORMATION CONTACT: Todd Thompson, Aerospace Engineer, International Branch, ANM-116, Transport Airplane Directorate, FAA, 1601 Lind Avenue, SW., Renton, Washington 98055-4056; telephone (425) 227-1175; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all BAE Systems (Operations) Limited Model BAe 146-100A and -200A series airplanes. That NPRM was published in the Federal Register on October 27, 2005 (70 FR 61916). That NPRM proposed to require inspecting the nose landing gear (NLG) assembly to determine the part number of the NLG main fitting subassembly. For subject NLG main fitting subassemblies, that NPRM also proposed to require determining the total number of accumulated landings on a subject NLG main fitting subassembly, and eventually replacing the NLG assembly.

Comments

We provided the public the opportunity to participate in the development of this AD. We received no comments on the NPRM or on the determination of the cost to the public.

Conclusion

We have carefully reviewed the available data and determined that air safety and the public interest require adopting the AD as proposed.

Costs of Compliance

This AD will affect about 18 airplanes of U.S. registry. The required inspection will take about 1 work hour per airplane, at an average labor rate of $65 per work hour. Based on these figures, the estimated cost of the AD for U.S. operators is $1,170, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-01-09 BAE Systems (Operations) Limited (Formerly British Aerospace Regional Aircraft): Amendment 39-14448. Docket No. FAA-2005-22791; Directorate Identifier 2005-NM-083-AD.

Effective Date

(a) This AD becomes effective February 16, 2006.

Affected ADs

(b) None.

Applicability

(c) This AD applies to all BAE Systems (Operations) Limited Model BAe 146-100A and -200A series airplanes, certificated in any category.

Unsafe Condition

(d) This AD results from a report indicating that the airplane maintenance manual contains incorrect safe-life limit information for certain nose landing gear (NLG) assemblies. We are issuing this AD to ensure that affected NLG fitting subassemblies are removed from service before they reach their approved safe-life limit. Operating with an NLG fitting subassembly that is beyond its approved safe-life limit could result in failure of the NLG and consequent loss of directional control on the ground and major structural damage to the airplane.

Compliance

(e) You are responsible for having the actions required by this AD performed within the compliance times specified, unless the actions have already been done.

Service Bulletin Reference

(f) The term “service bulletin,” as used in this AD, means the Accomplishment Instructions of BAE Systems (Operations) Limited Model BAe 146 Modification Service Bulletin ISB.32-169, dated October 4, 2004.

(1) The service bulletin refers to Messier-Dowty Service Bulletin 146-32-155, dated July 16, 2004, as an additional source of service information for inspecting to determine the part number of the NLG main fitting subassembly, determining the number of accumulated landings on the NLG main fitting subassembly, and replacing the NLG assembly.

(2) Although the service bulletin specifies to submit certain information to the manufacturer and to return replaced NLG assemblies to the manufacturer or other overhaul facility, this AD does not require those actions.

Inspection To Determine Part Number

(g) Within 30 days after the effective date of this AD: Inspect the NLG assembly to determine the part number of the NLG main fitting subassembly, in accordance with the service bulletin. If the part number of the NLG main fitting subassembly is not listed in paragraph 1.A.(2) of the service bulletin, then this paragraph requires no further action. A review of airplane maintenance records is acceptable in lieu of this inspection if the part number of the NLG main fitting subassembly can be conclusively determined from that review.

Replacement of NLG

(h) If the part number of the NLG main fitting subassembly is listed in paragraph 1.A.(2) of the service bulletin: Determine the total accumulated landings on the subassembly (since the subassembly was new or overhauled), and replace the NLG with a new, serviceable, or overhauled subassembly, in accordance with the service bulletin. (For the purposes of this AD, a serviceable NLG is one on which the NLG main fitting subassembly has been identified, the number of landings has been determined, and the number of landings does not exceed the limits specified in paragraphs (h), (h)(1) or (h)(2) of this AD, as applicable.) Do the actions specified in this paragraph at the applicable time specified in paragraph (h)(1) or (h)(2) of this AD, or within 500 landings after the effective date of this AD, whichever is later. A review of airplane maintenance records is acceptable in lieu of this inspection if the total accumulated landings on the subassembly (since the subassembly was new or overhauled) can be conclusively determined from that review.

(1) If the NLG has not been overhauled previously: Prior to the accumulation of 35,000 total landings on the NLG.

(2) If the NLG has been overhauled previously: Within 8,000 landings since the most recent overhaul.

Parts Installation

(i) After the effective date of this AD, no person may install an NLG that is equipped with a main fitting subassembly having a part number identified in paragraph 1.A.(2) of the service bulletin, unless all of the applicable actions in paragraphs (g) and (h) of this AD have been done.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(k) British airworthiness directive G-2005-0001, dated January 12, 2005, also addresses the subject of this AD.

Material Incorporated by Reference

(l) You must use BAE Systems (Operations) Limited Model BAe 146 Modification Service Bulletin ISB.32-169, dated October 4, 2004, to perform the actions that are required by this AD, unless the AD specifies otherwise. The Director of the Federal Register approved the incorporation by reference of this document in accordance with 5 U.S.C. 552(a) and 1 CFR part 51. Contact British Aerospace Regional Aircraft American Support, 13850 Mclearen Road, Herndon, Virginia 20171, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 30, 2005.
Linda Navarro,
Acting Manager, Transport Airplane Directorate, Aircraft Certification Service.

[FR Doc. 06-184 Filed 1-11-06; 8:45 am]

BILLING CODE 4910-13-P